DEPARTMENT OF COMMERCE

International Trade Administration

Initiation of Five-Year (Sunset) Reviews; Correction

AGENCY: Enforcement and Compliance, International Trade Administration, Department of Commerce.

ACTION: Notice; correction.

SUMMARY: The U.S. Department of Commerce (Commerce) published notice in the Federal Register of January 2, 2026, in which Commerce announced the initiation of Five-Year (Sunset) reviews. This notice inadvertently misidentified a case number and misspelled a country name.

FOR FURTHER INFORMATION CONTACT: Yasmin Bordas, AD/CVD Operations, Customs Liaison Unit, Enforcement and Compliance, International Trade Administration, U.S. Department of Commerce, 1401 Constitution Avenue NW, Washington, DC 20230; telephone: (202) 482-3813.

SUPPLEMENTARY INFORMATION:

Background

On January 2, 2026, Commerce published in the Federal Register the, “Initiation of Five-Year (Sunset) Reviews.” ¹ In this notice, we inadvertently misidentified a case number and misspelled a country name.

¹ See Initiation of Five-Year (Sunset) Reviews, 91 FR 125 (January 2, 2026).

Correction

In the Federal Register of January 2, 2026, in FR Doc 2025-24163, on page 125, in the third column of the table, correct “Columbia” to “Colombia,” and on page 126, in the first column of the table, correct the commerce case number from “A-571-806” to “A-517-806.”

Notification to Interested Parties

This notice is issued and published in accordance with section 751(c) of the Tariff Act of 1930, as amended, and 19 CFR 351.218(c).

Dated: January 6, 2026.
Scot Fullerton,
Acting Deputy Assistant Secretary for Antidumping and Countervailing Duty Operations.

[FR Doc. 2026-00383 Filed 1-9-26; 8:45 am]

BILLING CODE 3510-DS-P